DEPARTMENT OF TRANSPORTATION

Surface Transportation Board

[STB Finance Docket No. 33772]

Maryland and Delaware Railroad Company—Acquisition Exemption—Snow Hill Shippers Association, Inc.

Maryland and Delaware Railroad Company, a Class III rail carrier, has filed a verified notice of exemption under 49 CFR 1150.41 to acquire ownership rights in approximately 26.7 miles of rail line from the Snow Hill Shippers Association, Inc. (SHSA) between approximately milepost 39, in Frankford, Sussex County, DE, and approximately milepost 65.7, in Snow Hill, Worcester County, MD (Frankford-Snow Hill Branch).¹

¹ SHSA is a non-profit, non-stock Maryland membership corporation comprised of on-line shippers who own the Frankford-Snow Hill Branch.

The transaction is expected to be consummated on or soon after February 21, 2000, the effective date of the exemption.

If the notice contains false or misleading information, the exemption is void ab initio. Petitions to revoke the exemption under 49 U.S.C. 10502(d) may be filed at any time. The filing of a petition to revoke does not automatically stay the transaction.

An original and 10 copies of all pleadings, referring to STB Finance Docket No. 33772, must be filed with the Surface Transportation Board, Office of the Secretary, Case Control Unit, 1925 K Street, N.W., Washington, DC 20423-0001. In addition, a copy of each pleading must be served on Kevin M. Sheys, Esq., Oppenheimer Wolff Donnelly & Bayh LLP, 1350 Eye Street, N.W., Suite 200, Washington, DC 20005-3324.

Board decisions and notices are available on our website at “WWW.STB.DOT.GOV.”

Dated: Decided: February 16, 2000.
By the Board, David M. Konschnik, Director, Office of Proceedings.
Vernon A. Williams,
Secretary.

[FR Doc. 00-4365 Filed 2-23-00; 8:45 am]

BILLING CODE 4915-00-P